DEPARTMENT OF THE INTERIOR

Bureau of Indian Affairs

Implementation of Indian Reservation Roads Program and Streamlining the Federal Delivery of Tribal Transportation Services

AGENCY: Bureau of Indian Affairs, Interior.

ACTION: Notice of Tribal Consultations and Informational Meetings; Correction.

SUMMARY: The Bureau of Indian Affairs (BIA) published a document in the Federal Register of May 7, 2012, announcing tribal consultations to discuss the following topics: (1) Changes in how Proposed Roads and Access Roads are considered in the calculation of the Relative Needs Distribution Formula (RNDF) used for the allocation of Indian Reservation Roads (IRR) funding among tribes; (2) streamlining BIA delivery of transportation program services to tribal governments; and (3) update on implementation of “Question 10.” BIA and the Federal Highway Administration (FHWA) will also present an update on potential congressional reauthorization of the current transportation legislation involving the Indian Reservation Roads program or, if new transportation legislation is enacted prior to the meetings, BIA and FHWA will discuss its anticipated impacts on the IRR program. This notice corrects the meeting dates, locations, and agenda.

DATES: See the SUPPLEMENTARY INFORMATION section of this notice for consultation dates.

ADDRESSES: See the SUPPLEMENTARY INFORMATION section of this notice for locations where the consultations will be held.

FOR FURTHER INFORMATION CONTACT: LeRoy M. Gishi, Chief, Division of Transportation, Bureau of Indian Affairs, 1849 C Street NW., MS-4513, Washington, DC 20240, telephone (202) 513-7711; or Robert W. Sparrow, Jr., IRR Program Manager, Federal Highway Administration, 1200 New Jersey Ave. SE., Room E61-311, Washington, DC 20159, telephone (202) 366-9483.

SUPPLEMENTARY INFORMATION:

Corrections

In the Federal Register of May 7, 2012, on page 26786, the meeting date of June 21, 2012 in Lincoln, NE has been removed. In the same section, the Meeting Agenda has been modified by switching time slots for Question 10 Update section with the Reauthorization Update section. In addition, three new meetings were added. Correct the meeting dates, locations, and agenda listed in the SUPPLEMENTARY INFORMATION section with the following:

Meeting Dates and Locations

The consultation sessions will be held on the following dates, at the following locations:

Meeting date | Location | Time
June 5, 2012 | Anchorage, AK | 9 a.m.-4:30 p.m.
June 7, 2012 | Spokane, WA | 9 a.m.-4:30 p.m.
June 12, 2012 | Albuquerque, NM | 9 a.m.-4:30 p.m.
June 13, 2012 | Phoenix, AZ | 9 a.m.-4:30 p.m.
June 14, 2012 | Sacramento, CA | 9 a.m.-4:30 p.m.
June 19, 2012 | Nashville, TN | 9 a.m.-4:30 p.m.
June 20, 2012 | Oklahoma City, OK | 9 a.m.-4:30 p.m.
June 26, 2012 | Billings, MT | 9 a.m.-4:30 p.m.
June 27, 2012 | Rapid City, SD | 9 a.m.-4:30 p.m.
June 28, 2012 | Mount Pleasant, MI | 9 a.m.-4:30 p.m.
July 17, 2012 | Fairbanks, AK | 9 a.m.-4:30 p.m.
July 18, 2012 | Nome, AK* | 10 a.m.-5:30 p.m.
July 19, 2012 | Bethel, AK | 9 a.m.-4:30 p.m.
*Meeting start time will be 1 hour later.

Meeting Agenda (All Times Local)

9 a.m.-9:15 a.m. | Welcome and Introductions.
9:15 a.m.-10:45 a.m. | Proposed/Access Roads (Recommendation, Expectations, Implementation).
10:45 a.m.-11 a.m. | Break.
11 a.m.-11:45 a.m. | Question 10 Update.
11:45 a.m.-1 p.m. | Lunch.
1 p.m.-3 p.m. | Tribal Transportation Program Streamlining.
3 p.m.-3:15 p.m. | Break.
3:15 p.m.-4:00 p.m. | Reauthorization Update.
4:00 p.m.-4:30 p.m. | Closing Comments.
4:30 p.m. | Adjourn.

Dated: June 7, 2012.
Donald E. Laverdure,
Acting Assistant Secretary—Indian Affairs.

[FR Doc. 2012-14707 Filed 6-15-12; 8:45 am]

BILLING CODE 4310-LY-P